DEPARTMENT OF DEFENSE

Department of the Army; Corps of Engineers

Withdrawal of Notice of Intent To Prepare a Draft Environmental Impact Statement for the North Branch Ecorse Creek, Flood Risk Management General Reevaluation Study, Wayne County, MI

AGENCY: Department of the Army, U.S. Army Corps of Engineers, DoD.

ACTION: Notice of intent; withdrawal.

SUMMARY: The U.S. Army Corps of Engineers (USACE), Detroit District, is issuing this notice to advise Federal, state, and local government agencies and the public that the USACE is withdrawing its Notice of Intent to prepare a Draft Environmental Impact Statement (DEIS) for the reevaluation study of flood risk management alternatives for the North Branch Ecorse Creek, Wayne County, Michigan.

FOR FURTHER INFORMATION CONTACT: Charles Uhlarik, Chief, Environmental Analysis Branch, at (313) 226-2476 or by mail at U.S. Army Corps of Engineers, Detroit District; 477 Michigan Avenue, 6th Floor; Detroit, MI 48226-2550.

SUPPLEMENTARY INFORMATION: The Corps of Engineers published a notice of intent to prepare a DEIS in the September 24, 2010, issue of the Federal Register (75 FR 58369). Since that time, scoping comments and public meetings, a Draft U.S. Fish and Wildlife Service Coordination Act Report, an Environmental Assessment (EA), and agency/public review of the EA did not reveal any significant impacts on the human environment. Therefore, the Detroit District, Corps of Engineers, is no longer considering preparation of a Draft Environmental Impact Statement for the North Branch Ecorse Creek, Flood Risk Management General Reevaluation Study.

Paul A. Powell,
Project Manager.

[FR Doc. 2018-06464 Filed 3-29-18; 8:45 am]

BILLING CODE 3720-58-P